DEPARTMENT OF AGRICULTURE

Animal and Plant Health Inspection Service

[Docket No. APHIS-2008-0087]

Notice of Request for Approval of an Information Collection; Integrated Survey Information System

AGENCY: Animal and Plant Health Inspection Service, USDA.

ACTION: New information collection; comment request.

SUMMARY: In accordance with the Paperwork Reduction Act of 1995, this notice announces the Animal and Plant Health Inspection Service's intention to request approval of an information collection associated with the Integrated Survey Information System.

DATES: We will consider all comments that we receive on or before October 17, 2008.

ADDRESSES: You may submit comments by either of the following methods:

• Federal eRulemaking Portal: Go to http://www.regulations.gov/fdmspublic/component/main?main=DocketDetail&d=APHIS-2008-0087 to submit or view comments and to view supporting and related materials available electronically.

• Postal Mail/Commercial Delivery: Please send two copies of your comment to Docket No. APHIS-2008-0087, Regulatory Analysis and Development, PPD, APHIS, Station 3A-03.8, 4700 River Road Unit 118, Riverdale, MD 20737-1238. Please state that your comment refers to Docket No. APHIS-2008-0087.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Integrated Survey Information System, contact Valerie DeFeo, National Program Manager, Emergency and Domestic Programs, PPQ, APHIS, 4700 River Road Unit 134, Riverdale, MD 20737; (301) 734-3393. For copies of more detailed information on the information collection, contact Mrs. Celeste Sickles, APHIS* Information Collection Coordinator, at (301) 851-2908.

SUPPLEMENTARY INFORMATION:

Title: Integrated Survey Information System.

OMB Number: 0579-xxxx.

Type of Request: Approval of a new information collection.

Abstract: The Plant Protection Act (7 U.S.C. 7701 et seq.) authorizes the Secretary of Agriculture, either independently or in cooperation with States, to carry out operations or measures to detect, eradicate, suppress, control, prevent, or retard the spread of plant pests and noxious weeds that are new to or not widely distributed within the United States. This authority has been delegated to the Administrator, Animal and Plant Health Inspection Service (APHIS).

As part of this mission, the Plant Protection and Quarantine (PPQ) program, APHIS, has designed a data management system by integrating existing systems focused on core program functions to maximize PPQ's ability to respond to plant health emergencies. This Plant Health Information System (PHIS) provides APHIS a comprehensive plant health data management system capable of supporting the mission of safeguarding U.S. agriculture. The Integrated Survey Information System (ISIS) is one of PHIS' core components. ISIS is a web-enabled and seamlessly integrated survey tool for timely or “real-time” collection and storage of data concerning plant pests, easily merged into a geographic information system mapping and analysis tool and available to key regulatory partners and stakeholders. Flexibility within ISIS allows for transfer of summary data to public sites, including PPQ's National Agricultural Pest Information System. Individual States and PPQ utilize ISIS to conduct surveys, to detect and measure the presence of plant pests, and to generate reports which may be used for operational decisionmaking when responding to plant pest problems. As part of ISIS information collection activities, PPQ and States use PPQ form 391, “Specimens for Determination,” to submit samples for pest identification.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.25 hours per response.

Respondents: State plant health regulatory officials.

Estimated annual number of respondents: 470.

Estimated annual number of responses per respondent: 39.361702.

Estimated annual number of responses: 18,500.

Estimated total annual burden on respondents: 4,625 hours. (Due to averaging, the total annual burden hours may not equal the product of the annual number of responses multiplied by the reporting burden per response.)

All responses to this notice will be summarized and included in the request for OMB approval. All comments will also become a matter of public record.

Done in Washington, DC, this 12th day of August 2008.
Cindy Smith,
Administrator, Animal and Plant Health Inspection Service.

[FR Doc. E8-19090 Filed 8-15-08; 8:45 am]

BILLING CODE 3410-34-P